DEPARTMENT OF THE INTERIOR

National Park Service

[NPS-PWRO-TUSK-22317; PPPWTUSK00, PPMPSPD1Z.YM0000]

Notice of December 12, 2016, Meeting for Tule Springs Fossil Beds National Monument Advisory Council

AGENCY: National Park Service, Interior.

ACTION: Meeting notice.

SUMMARY: This notice sets forth the date of the second meeting of the Tule Springs Fossil Beds National Monument Advisory Council.

DATES: The public meeting of the Tule Springs Fossil Beds National Monument Advisory Council will be held on Monday, December 12, 2016, at 5:30 p.m. (PACIFIC).

ADDRESSES: The second meeting of the Tule Springs Fossil Beds National Monument Advisory Council will take place on Monday, December 12, 2016, at 5:30 p.m., at the Interagency Office Building, 4701 North Torrey Pines Drive, Las Vegas, Nevada 89130, to discuss the following:

1. Introduction of Designated Federal Officer (DFO) and Council Members

2. Request for Public Comments

3. Committee Roll

4. Approval of Agenda

5. Review and Approval of Minutes

6. Reports

a. Superintendent's Report

b. Old Business

c. New Business

7. Public Comments Submitted

8. Adjourn

FOR FURTHER INFORMATION CONTACT: Further information concerning the meeting may be obtained from Jon Burpee, Superintendent and DFO, Tule Springs Fossil Beds National Monument, 601 Nevada Way, Boulder City, Nevada 89005, via telephone at (702) 902-0431 or through email at tusk_information@nps.gov.

SUPPLEMENTARY INFORMATION: The Council was established pursuant to section 3092(a)(6) of Public Law 113-291 and in accordance with the provisions of the Federal Advisory Management Act (5 U.S.C. Appendix 1-16). The purpose of the Council is to advise the Secretary of the Interior, or her designee, with respect to the preparation and implementation of the management plan.

The meeting is open to the public. It is expected that 60 persons will be able to attend the meeting in addition to Council members. Interested persons may make oral/written presentations to the Commission during the business meeting or file written statements. Such requests should be made to the park superintendent prior to the meeting. Before including your address, telephone number, email address, or other personal identifying information in your comment, you should be aware that your entire comment—including your personal identifying information—may be made publicly available at any time. While you may ask us in your comment to withhold your personal identifying information from public review, we cannot guarantee that we will be able to do so.

Alma Ripps,
Chief, Office of Policy.

[FR Doc. 2016-27179 Filed 11-9-16; 8:45 am]

BILLING CODE 4312-52-P